DEPARTMENT OF TRANSPORTATION

Federal Aviation Administration

14 CFR Chapter 1

[Docket No. FAA-2013-0988]

Policy and Procedures Concerning the Use of Airport Revenue; Proceeds From Taxes on Aviation Fuel

AGENCY: Federal Aviation Administration (FAA) DOT.

ACTION: Notice of proposed clarification of policy; Extension of comment period.

SUMMARY: In order to provide the public additional time to submit comments on the proposed Policy, the Federal Aviation Administration (“FAA”) is extending the public comment period for thirty days. This action proposes to amend the FAA Policy and Procedures Concerning the Use of Airport Revenue published in the Federal Register at 64 FR 7696 on February 16, 1999 (“Revenue Use Policy”) to clarify FAA's policy on Federal requirements for the use of proceeds from taxes on aviation fuel. Under Federal law, airport operators that have accepted Federal assistance generally may use airport revenues only for airport-related purposes. The revenue use requirements apply to certain state and local government taxes on aviation fuel as well as to revenues received directly by an airport operator. This notice publishes a proposed clarification of FAA's understanding of the Federal requirements for use of revenues derived from taxes on aviation fuel. Briefly, an airport operator or state government submitting an application under the Airport Improvement Program must provide assurance that revenues from state and local government taxes on aviation fuel are used for certain aviation-related purposes. These purposes include airport capital and operating costs, and state aviation programs. In view of the interests of sellers and consumers of aviation fuel, and of state and local government taxing authorities in limits on use of proceeds from taxes touching aviation fuel, this notice solicits public comment on the proposed policy clarification. This notice also solicits comments about whether there are other reasonable interpretations regarding local taxes that are not enumerated here and should be considered by the FAA. Finally, this proposed policy clarification, if finalized, would apply prospectively to use of proceeds from both new taxes and to existing taxes that do not qualify for grandfathering from revenue use requirements.

DATES: Comments period for the Notice published on November 21, 2013, at 78 FR 69789 and closed on January 21, 2014 is extended to March 3, 2014. Comments that are received after that date will be considered only to the extent possible.

ADDRESSES: To read background documents or comments received, go to http://www.regulations.gov at any time or to Room W12-140 on the ground floor of the DOT West Building, 1200 New Jersey Avenue SE., Washington, DC, between 9 a.m. and 5 p.m., Monday through Friday, except Federal holidays.

You may also send written comments by any of the following methods.

• Federal eRulemaking Portal: Go to http://www.regulations.gov and follow the instructions for sending your comments electronically. Docket Number: FAA 2013-0988.

• Mail: Docket Management Facility, U.S. Department of Transportation, 1200 New Jersey Avenue SE., West Building Ground Floor, Room W12-140, Washington DC 20590-0001.

• Hand Delivery: Deliver to mail address above between 9:00 a.m. and 5 p.m. EST, Monday through Friday, except Federal holidays.

• Fax: (202) 493-2251

Identify all transmission with “Docket Number FAA 2013-0988” at the beginning of the document.

FOR FURTHER INFORMATION CONTACT: Randall S. Fiertz, Director, Office of Airport Compliance and Management Analysis, Federal Aviation Administration, 800 Independence Avenue SW., Washington, DC 20591, telephone (202) 267-3085; facsimile (202) 267-5257.

SUPPLEMENTARY INFORMATION:

Authority for the Proposed Policy Clarification

This notice is published under the authority described in Subtitle VII, part B, chapter 471, section 47122, and the Federal Aviation Administration Authorization Act of 1994, § 112(a), Pub. L. 103-305, 49 U.S.C. § 47107(l)(1) (Aug. 23, 1994).

Issued in Washington, DC, on January 17, 2014.
Randall S. Fiertz,
Director, Office of Airport Compliance and Management Analysis.

[FR Doc. 2014-02033 Filed 1-30-14; 8:45 am]

BILLING CODE 4910-13-P